DEPARTMENT OF THE INTERIOR

Bureau of Land Management

[NV-930-1430-ET; NVN-75235; 4-08808]

Public Land Order No. 7620; Withdrawal of Public Land for the Bullion Monarch Mill Site Reclamation; Nevada

AGENCY: Bureau of Land Management, Interior.

ACTION: Public land order.

SUMMARY: This order withdraws 94.21 acres of public land from surface entry and mining, for a period of 10 years, for the Bureau of Land Management to protect public health and safety, as well as the reclamation efforts of land affected by previous milling operations at the Bullion Monarch Mill Site.

EFFECTIVE DATE: October 22, 2004.

FOR FURTHER INFORMATION CONTACT: Dennis J. Samuelson, BLM Nevada State Office, PO Box 12000, Reno, Nevada 89520, 775-861-6532.

Order

By virtue of the authority vested in the Secretary of the Interior by Section 204 of the Federal Land Policy and Management Act of 1976, 43 U.S.C. 1714 (2000), it is ordered as follows:

1. Subject to valid existing rights, the following described public land is hereby withdrawn from settlement, sale, location, or entry under the general land laws, including the United States mining laws (30 U.S.C. Ch. 2 (2000)), but not from leasing under the mineral leasing laws, for the Bureau of Land Management to protect public health and safety, as well as the reclamation efforts of land affected by previous milling operations at the Bullion Monarch Mill Site:

Mount Diablo Meridian

T. 19 N., R. 43 E.,

Sec. 13, lot 2, SW¼NE¼ and N½N½NW¼SE¼.

The area described contains 94.21 acres in Nye County.

2. The withdrawal made by this order does not alter the applicability of those public land laws governing the use of the land under lease, license, or permit, or governing the disposal of their mineral or vegetative resources other than under the mining laws.

3. This withdrawal will expire 10 years from the effective date of this order unless, as a result of a review conducted before the expiration date pursuant to section 204(f) of the Federal Land Policy and Management Act of 1976, 43 U.S.C. 1714(f) (2000), the Secretary determines that the withdrawal shall be extended.

(Authority: 43 U.S.C. 1714(a); 43 CFR 2310.3-3(b)(1))

Dated: October 6, 2004.
Rebecca W. Watson,
Assistant Secretary—Land and Minerals Management.

[FR Doc. 04-23682 Filed 10-21-04; 8:45 am]

BILLING CODE 4310-HC-P